DEPARTMENT OF THE TREASURY

Office of Foreign Assets Control

31 CFR Part 501

Reporting and Procedures Regulations: Mandatory License Application Form for Unblocking Funds Transfers

AGENCY: Office of Foreign Assets Control, Treasury.

ACTION: Final rule; amendments.

SUMMARY: The Office of Foreign Assets Control (“OFAC”) is amending the Reporting and Procedures Regulations to require that license applicants seeking to unblock funds transfers under the various economic sanctions programs administered by OFAC submit their application in a standardized format.

EFFECTIVE DATE: February 29, 2000.

FOR FURTHER INFORMATION CONTACT: Dennis P. Wood, Chief, Compliance Programs Division (tel.: 202/622-2490); or William B. Hoffman, Chief Counsel (tel.: 202/622-2410), Office of Foreign Assets Control, Department of the Treasury, Washington, DC 20220.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are also available for downloading from the Office's Internet Home Page: http://www.treas.gov/ofac, or in fax form through the Office's 24-hour fax-on-demand service: call 202/622-0077 using a fax machine, fax modem, or (within the United States) a touch-tone telephone.

Background

The Office of Foreign Assets Control (“OFAC”) is amending the Reporting and Procedures Regulations, 31 CFR part 501 (the “Regulations”), to require that license applications to unblock funds transfers be submitted in a standardized format. Section 501.801 of the Regulations provides procedures for requesting specific licenses, including application procedures under those statements of licensing policy contained in subpart E of the individual parts in chapter V, which note the availability of specific licenses for particular categories of transactions but do not establish requirements for the submission of specific information.

Assets blocked pursuant to the various economic sanctions programs administered by OFAC may be released through a specific license issued by OFAC in response to applications submitted by persons having an interest in the blocked funds. OFAC has for many years required certain information to be included in each license application. Until December 1998, applicants applied for a license by sending a letter with supporting documentation to OFAC. However, this non-standardized format was not conducive to the efficient processing of applications because many applications were incomplete, difficult to interpret and at times not submitted in English as required.

Accordingly, OFAC developed a form for OFAC license applications (TD-F 90-22.54) (OMB #1505-0170) in December 1998, which provided a voluntary standardized method for all applicants seeking the release of blocked funds transfers. This form was made available in electronic format on OFAC's website and by fax from OFAC's fax-on-demand service. Its use has greatly facilitated applicants' submission and OFAC's processing of applications, and obviated the need for applicants to write lengthy letter applications. This has resulted in a reduction of the overall burden of the application process.

OFAC is amending § 501.801 of the Regulations to make this form mandatory for applicants seeking the unblocking of funds transfers, and to require that the filing include the original signed application and two duplicate submissions of the entire application package. A new feature of the mandatory form is that the actual application form will generally become the license or license denial once stamped and signed by the appropriate OFAC official.

Section 501.801 of the Regulations is also being amended to require that all applications must be filed by mail or courier. Applications will no longer be accepted by fax or electronically, unless otherwise authorized. However, the application form for the unblocking of funds transfers will continue to be available on OFAC's website, where it may be completed but not signed electronically, and on OFAC's fax-on-demand service.

Since this final rule involves a foreign affairs function, Executive Order 12886 and the provisions of the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

This rule is being issued without prior notice and public comment procedure pursuant to the Administrative Procedure Act (5 U.S.C. 553). Pursuant to the Paperwork Reduction Act of 1995 (44 U.S.C. 3507), the collection of information contained in this rule has been submitted to and approved by the Office of Management and Budget (“OMB”), and has been assigned control number 1505-0170. An agency may not conduct or sponsor, and a person is not required to respond to, a collection of information unless it displays a valid control number assigned by OMB.

List of Subjects in 31 CFR Part 501

Administrative practice and procedure, Banks, banking, Blocking of assets, Foreign trade, Reporting and recordkeeping requirements.

For the reasons set forth in the preamble, 31 CFR part 501 is amended as set forth below:

PART 501—REPORTING AND PROCEDURES REGULATIONS

1. The authority citation for part 501 continues to read as follows:

Authority: 22 U.S.C. 287c; 31 U.S.C. 321(b); 50 U.S.C. 1701-1706; 50 U.S.C. App. 1-44.

Subpart D—Procedures

2. Paragraph (b)(2) of § 501.801 is revised as follows:

§ 501.801 Licensing.

* * * * *

(b) Specific licenses— * * *

(2) Applications for specific licenses. Original signed applications for specific licenses to engage in any transactions prohibited by or pursuant to this chapter or sanctions programs that have been delegated to the Director of the Office of Foreign Assets Control for implementation and administration must be filed by mail or courier. Applications will not be accepted by fax or electronically, unless otherwise authorized. Applications may be submitted in letter form with the exception of license applications for the unblocking of funds transfers. Applications for the unblocking of funds transfers must be submitted using TD-F 90-22.54, “Application for the Release of Blocked Funds,” accompanied by two complete copies of the entire submission. The form, which requires information regarding the date of the blocking, the financial institutions involved in the transfer, and the beneficiary and amount of the transfer, may be obtained from the OFAC Internet Home Page: http://www.treas.gov/ofac, the OFAC fax-on-demand service: 202/622-0077, or the Compliance Programs Division, Office of Foreign Assets Control, Department of the Treasury, Washington, DC 20220. Any person having an interest in a transaction or proposed transaction may file an application for a license authorizing such transaction.

* * * * *

Dated: January 19, 2000.
R. Richard Newcomb,
Director, Office of Foreign Assets Control.
Approved: January 24, 2000.
Elisabeth A. Bresee,
Assistant Secretary (Enforcement), Department of the Treasury.

[FR Doc. 00-4672 Filed 2-24-00; 9:49 am]

BILLING CODE 4810-25-P